NUCLEAR REGULATORY COMMISSION

[NRC-2009-0263]

Draft Regulatory Guide: Issuance, Availability

AGENCY: Nuclear Regulatory Commission.

ACTION: Notice of Issuance and Availability of Draft Regulatory Guide, DG-1229.

FOR FURTHER INFORMATION CONTACT: Aaron Szabo, U.S. Nuclear Regulatory Commission, Washington, DC 20555-0001, telephone: (301) 415-1985 or e-mail to Aaron.Szabo@nrc.gov.

SUPPLEMENTARY INFORMATION:

I. Introduction

The U.S. Nuclear Regulatory Commission (NRC) is issuing for public comment a draft guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide (DG), entitled, “Assuring the Availability of Funds for Decommissioning Nuclear Reactors,” is temporarily identified by its task number, DG-1229, which should be mentioned in all related correspondence. DG-1229 is proposed Revision 2 of Regulatory Guide 1.159, dated October 2003.

The general requirements for applications for license termination and decommissioning nuclear power, research, and test reactors appear in Title 10, Part 50, “Domestic Licensing of Production and Utilization Facilities,” of the Code of Federal Regulations (10 CFR Part 50). Subsequent to the original publication of this regulatory guide in August 1990, the NRC promulgated amendments to 10 CFR Part 50 in the Federal Register on September 22, 1998 (63 FR 50465). Various amendments modified 10 CFR 50.33(k), 10 CFR 50.75, “Reporting and Recordkeeping for Decommissioning Planning,” and 10 CFR 50.82(b), which require operating license applicants and existing licensees to submit information on how reasonable assurance will be provided that funds are available to decommission the facility. The NRC promulgated additional amendments to 10 CFR 50.75 on December 24, 2002, in the Federal Register (67 FR 78332). As amended, 10 CFR 50.75 establishes requirements for indicating how this assurance will be provided; namely, the amount of funds that must be provided, including updates; the methods to be used for assuring funds; and provisions contained in trust agreements for safeguarding decommissioning funds. This document provides guidance to applicants and licensees of nuclear power, research, and test reactors concerning methods acceptable to the staff of the NRC for complying with requirements in the rules regarding the amount of funds for decommissioning. It also provides guidance on the content and form of the financial assurance mechanisms in those rule amendments.

II. Further Information

The NRC staff is soliciting comments on DG-1229. Comments may be accompanied by relevant information or supporting data and should mention DG-1229 in the subject line. Comments submitted in writing or in electronic form will be made available to the public in their entirety through the NRC's Agencywide Documents Access and Management System (ADAMS).

Personal information will not be removed from your comments. You may submit comments by any of the following methods:

1. Mail comments to: Rulemaking and Directives Branch, Office of Administration, U.S. Nuclear Regulatory Commission, Washington, DC 20555-0001.

2. Federal e-Rulemaking Portal: Go to http://www.regulations.gov and search for documents filed under Docket ID NRC-2009-0263. Address questions about NRC dockets to Carol Gallagher, 301-492-3668; e-mail Carol.Gallagher@nrc.gov.

3. Fax comments to: Rulemaking and Directives Branch, Office of Administration, U.S. Nuclear Regulatory Commission at (301) 492-3446.

Requests for technical information about DG-1229 may be directed to the NRC contact, Aaron Szabo at (301) 415-1985 or e-mail to Aaron.Szabo@nrc.gov.

Comments would be most helpful if received by September 9, 2009. Comments received after that date will be considered if it is practical to do so, but the NRC is able to ensure consideration only for comments received on or before this date. Although a time limit is given, comments and suggestions in connection with items for inclusion in guides currently being developed or improvements in all published guides are encouraged at any time.

Electronic copies of DG-1229 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML091420226.

In addition, regulatory guides are available for inspection at the NRC's Public Document Room (PDR) located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

Dated at Rockville, Maryland, this 19th day of June, 2009.
For the Nuclear Regulatory Commission.
Mark P. Orr,
Acting Chief, Regulatory Guide Development Branch, Division of Engineering, Office of Nuclear Regulatory Research.

[FR Doc. E9-15280 Filed 6-29-09; 8:45 am]

BILLING CODE 7590-01-P